DEPARTMENT OF TRANSPORTATION

Federal Aviation Administration

Notice of Intent To Rule on Application 03-15-C-00-CHO To Impose and Use the Revenue From a Passenger Facility Charge (PFC) at Charlottesville-Albemarle Airport, Charlottesville, VA

AGENCY: Federal Aviation Administration (FAA), DOT.

ACTION: Notice of Intent to Rule on Application.

SUMMARY: The FAA proposes to rule and invites public comment on the application to, impose and use the revenue from a PFC at Charlottesville-Albemarle Airport under the provisions of the 49 U.S.C. 40117 and part 158 of the Federal Aviation Regulations (14 CFR part 158).

DATES: Comments must be received on or before February 24, 2003.

ADDRESSES: Comments on this application may be mailed or delivered in triplicate to the FAA at the following address: Washington Airports District Office, 23723 Air Freight Lane, Suite 210, Dulles, VA 22016.

In addition, one copy of any comments submitted to the FAA must be mailed or delivered to Bryan O. Elliott, Director of Aviation, of the Charlottesville-Albemarle Airport Authority at the following address: Charlottesville-Albemarle Airport Authority, 201 Bowen Loop, Charlottesville, Virginia 22901.

Air carriers and foreign air carriers may submit copies of written comments previously provided to the Charlottesville-Albemarle Airport Authority under section 158.23 of part 158.

FOR FURTHER INFORMATION CONTACT: Arthur Winder, Program Manager, Washington Airports District Office, 23723 Air Freight Land, Suite 210, Dulles, VA. 22016, (703) 661-1363. The application may be reviewed in person at this same location.

SUPPLEMENTARY INFORMATION: The FAA proposes to rule and invites public comment on the application to impose and use the revenue from a PFC at Charlottesville-Albemarle Airport under the provisions of the 49 U.S.C. 40117 and part 158 of the Federal Aviation Regulations (14 CFR part 158).

On December 24, 2002, the FAA determined that the application to impose and use the revenue from a PFC submitted by capital Region Airport Commission was substantially complete within the requirements of section 158.25 of part 158. The FAA will approve or disapprove the application, in whole or in part, no later than March 29, 2003.

The following is a brief overview of the application.

Proposed charge effective date: February 1, 2005.

Proposed charge expiration date: August 1, 2006.

Level of the proposed PFC: $3.00.

Total estimated PFC Revenue:

Impose $850,000.

Use $850,000.

Brief description of proposed project(s): Terminal Building Modifications (Impose & Use). Upgrade multi-user Flight Information Display System (Impose & Use). Extend Runway 3 Safety Area, Phase IV (Impose & Use). PFC Project Administration Fees (Impose & Use).

Class or classes of air carriers which the public agency has requested not be required to collect PFC's: Air Taxi/Commercial Operators filing FAA Form 1800-31.

Any person may inspect the application in person at the FAA office listed above under FOR FURTHER INFORMATION CONTACT and at the FAA regional Airports office located at: Federal Aviation Administration, Airports Division, AEA-610, 1 Aviation Plaza, Jamaica, NY 11434-4809.

In addition, any person may, upon request, inspect the application, notice and other documents germane to the application in person at the Charlottesville-Albemarle Airport.

Issued in Dulles, Va. 22016, January 14, 2003.
Arthur Winder,
Program Manager, Washington Airports District Office.

[FR Doc. 03-1474 Filed 1-22-03; 8:45 am]

BILLING CODE 4910-13-M